SECURITIES AND EXCHANGE COMMISSION

17 CFR Parts 275 and 279

[Release No. IA-4091; File No. S7-09-15]

RIN 3235-AL75

Amendments to Form ADV and Investment Advisers Act Rules

Correction

In proposed rule document 2015-12778, appearing on pages 33718-33838 in the issue of Friday, June 12, 2015, make the following corrections:

On page 33728, in the third column, below the last line, the text for footnote 92 should appear as follows:

“⁹² The proposed definition of Legal Entity Identifier is: A “legal entity identifier” assigned or recognized by the Global LEI Regulatory Oversight Committee (ROC) or the Global LEI Foundation (GLEIF). See Proposed Form ADV: Glossary. In Item 1, we propose removing outdated text referring to the “legal entity identifier” as being “in development” in the first half of 2011.”

On pages 33745-33838, the forms should appear as follows:

BILLING CODE 1505-01-D

[FR Doc. C1-2015-12778 Filed 7-1-15; 08:45 am]

BILLING CODE 1505-01-C